DEPARTMENT OF TRANSPORTATION

Research and Special Programs Administration

[Docket Number: RSPA-98-4957]

Pipeline Safety: Renewal of information Collection: Comment Request

AGENCY: Research and Special Programs Administration (RSPA), DOT.

ACTION: Notice and request for public comments and OMB approval.

SUMMARY: This notice requests public participation in the Office of Management and Budget (OMB) approval process for the renewal of an existing RSPA information collection. This information collection concerns a pipeline safety regulation that requires hazardous liquid pipeline operators who operate more than 500 miles of pipeline to follow certain protocols in areas designated as high consequence areas (HCAs). RSPA is requesting OMB approval for renewal of this information collection under the Paperwork Reduction Act of 1995 and 5 CFR part 1320. On September 9, 2003, RSPA published in the Federal Register (68 FR 53216) a request for public comments on this information collection. None were received. The purpose of this notice is to allow the public an additional 30 days from the date of this notice to send in their comments.

Abstract: RSPA pipeline safety regulation 49 CFR 195.452 designates certain environmentally sensitive areas that are particularly vulnerable to the consequences of hazardous liquid pipeline accidents as high consequence areas (HCAs). The rule was promulgated on December 1, 2000 (65 FR 75378), to provide for thorough assessment and repair of pipeline segments that, in the event of a leak or failure, could affect populated areas, areas unusually sensitive to environmental damage, and commercially navigable waterways. RSPA now requires hazardous liquid pipeline operators with more than 500 miles of pipeline to develop and follow an integrity management program that provides for continually assessing the integrity of all pipeline segments that could affect these high consequence areas.

Copies of this information collection can be reviewed at the U.S. Department of Transportation, Dockets Facility, Plaza 401, 400 Seventh St., SW., Washington, DC 20590, Monday through Friday from 10 a.m. to 5 p.m., excluding public holidays, when the facility is closed. This information collection can also be viewed electronically on the Internet at dms.dot.gov.

DATES: Comments on this notice must be received within 30 days of the publication date of this notice to be assured of consideration.

ADDRESSES: Interested persons are invited to send comments directly to the Office Management and Budget, Office of Regulatory Affairs, Attn: Desk Officer for the Department of Transportation, 726 Jackson Place, NW., Washington, DC 20503.

FOR FURTHER INFORMATION CONTACT: Marvin Fell, (202) 366-6205, to ask questions about this notice; or write by e-mail to marvin.fell@rspa.dot.gov.

SUPPLEMENTARY INFORMATION: Abstract: Certain areas are particularly environmentally sensitive from hazardous liquid pipeline failures. These areas are called high consequence areas (HCA's).

Respondents: Gas and hazardous liquid pipeline operators.

Estimated Number of Respondents: 66.

Estimated Number of Responses per Respondent: 1.

Estimated Total Annual Burden Hours on Respondents: 54,780.

OMB Control Number: 2137-0604.

Comments are invited on: (a) The need for the proposed collection of information for the proper performance of the functions of the agency, including whether the information will have practical utility; (b) the accuracy of the agency's estimate of the burden of the proposed collection of information including the validity of the methodology and assumptions used; (c) ways to enhance the quality, utility and clarity of the information to be collected; and (d) ways to minimize the burden of the collection of information on those who are to respond, including the use of appropriate automated, electronic, mechanical, or other technological collection techniques.

Issued in Washington, DC on December 4, 2003.
Stacey L. Gerard,
Associate Administrator for Pipeline Safety.

[FR Doc. 03-30656 Filed 12-10-03; 8:45 am]

BILLING CODE 4910-60-P